DEPARTMENT OF EDUCATION

Privacy Act of 1974; System of Records

AGENCY: Office of Chief Information Officer, Department of Education.

ACTION: Notice of deletion of existing system of records.

SUMMARY: In accordance with the Privacy Act of 1974, as amended (Privacy Act), the Department of Education (Department) deletes one system of records from its existing inventory of systems of records subject to the Privacy Act.

DATES: This deletion is effective May 11, 2012.

FOR FURTHER INFORMATION CONTACT: Danny Harris, Director, Office of the Chief Information Officer, U.S. Department of Education, 555 New Jersey Avenue NW., room PCP-9112, Washington, DC 20208-0001. Telephone: (202) 245-6252.

If you use a telecommunications device for the deaf (TDD) or a text telephone (TTY), call the Federal Relay Service (FRS), toll free, at 1-800-877-8339.

Individuals with disabilities may obtain this document in an accessible format (e.g., braille, large print, audiotape, or compact disc) on request to the contact person listed in this section.

SUPPLEMENTARY INFORMATION: The Department deletes one system of records from its inventory of record systems subject to the Privacy Act of 1974 (5 U.S.C. 552a), as amended. The deletion is not within the purview of subsection (r) of the Privacy Act, which requires submission of a report on a new or altered system of records.

This system of records is no longer needed because this system has been decommissioned. Further, this system of records is no longer retrievable; therefore, the following system of records is deleted:

1. (18-04-03) ED Web Personalization Pilot Data Collection, 66 FR 46688-46690 (September 6, 2001).

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: May 3, 2012.
Danny Harris,
Director, Office of the Chief Information Officer.

For the reasons discussed in the preamble, the Director of the Office of the Chief Information Officer deletes the following system of records:

System No. | System name
18-04-03 | ED Web Personalization Pilot Data Collection.

[FR Doc. 2012-11088 Filed 5-10-12; 8:45 am]

BILLING CODE 4000-01-P